DEPARTMENT OF HOUSING AND URBAN DEVELOPMENT

[Docket No. FR-5217-N-04]

Notice of Regulatory Waiver Requests Granted for the Fourth Quarter of Calendar Year 2008

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2008, and ending on December 31, 2008.

FOR FURTHER INFORMATION CONTACT: For general information about this notice, contact Aaron Santa Anna, Assistant General Counsel for Regulations, Office of General Counsel, Department of Housing and Urban Development, 451 7th Street, SW., Room 10276, Washington, DC 20410-0500, telephone number 202-708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the fourth quarter of calendar year 2008.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337), as reiterated and updated in the Restatement of Policy on Waiver of Regulations published on December 17, 2008 (73 FR 76674). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2008, through December 31, 2008. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2008) before the next report is published (the first quarter of calendar year 2009), HUD will include any additional waivers granted for the fourth quarter in the next report.

Accordingly, information about approved waiver requests pertaining to HUD regulations is provided in the Appendix that follows this notice.

Dated: March 6, 2009.
Linda M. Cruciani,
Deputy General Counsel for Operations.

Appendix

Listing of Waivers of Regulatory Requirements Granted by Offices of the Department of Housing and Urban Development October 1, 2008 Through December 31, 2008

Note to Reader: More information about the granting of these waivers, including a copy of the waiver request and approval, may be obtained by contacting the person whose name is listed as the contact person directly after each set of regulatory waivers granted.

The regulatory waivers granted appear in the following order:

I. Regulatory Waivers Granted by the Office of Community Planning and Development.

II. Regulatory Waivers Granted by the Office of Housing.

III. Regulatory Waivers Granted by the Office of Public and Indian Housing.

I. Regulatory Waivers Granted by the Office of Community Planning and Development

For further information about the following regulatory waivers, please see the name of the contact person that immediately follows the description of the waiver granted.

• Regulation: 24 CFR 58.22(a).

Project/Activity: The King County Housing Authority applied to the City of Federal Way for Community Development Block Grant funds for the renovation and expansion of Kings Court Community Building on May 14, 2007. The King County Housing Authority also intended to utilize Capital funds for the project. The Community Center is located in close proximity to public housing units and is intended for services such as after-school programs for youths and employment services for nearby residents and Section 8 recipients. King County Housing Authority committed nonfederal funds by issuing a letter of award for constructing the Community Center, an action that limits the choice of reasonable alternatives, before receiving an approved Request for Release of Funds.

Nature of Requirement: HUD's regulation at 24 CFR 58.22(a) requires that an environmental review be performed and a request for release of funds be completed and certified prior to the commitment of non-HUD funds to a project using HUD funds.

Granted by: Susan D. Peppler, Assistant Secretary for Community Planning and Development.

Date Granted: December 22, 2008.

Reason Waived: The waiver was granted based on the following findings: The project will furthered the objective of providing community development; the errors made in the environmental process for the commitment of non-HUD funds were made in good faith and King County Housing Authority did not willfully violate the applicable regulations; no HUD funds were committed; and, an environmental assessment and a site visit by HUD staff concluded that the granting of the waiver will not result in any unmitigated, adverse environmental impact.

Contact: Danielle Schopp, Office of Environment and Energy, Office of Community Planning and Development, Department of Housing and Urban Development, 451 7th Street, SW., Room 7250, Washington, DC 20410-7000, telephone number (202) 402-4442.

• Regulation: 24 CFR 58.22(a).

Project/Activity: On May 26, 2006, HUD received an application from Ponca Tribe of Nebraska for Indian Community Development Block Grant in the amount of $609,840 to acquire property and buildings to use for tribal program offices. Ponca Tribe's intended use is to acquire property and buildings to develop a Ponca Family Resource Center to provide a new “one-stop” service delivery system to provide comprehensive, quality programs and services that concentrate on strengthening families through prevention modes spanning the entire human lifecycle in a culturally appropriate manner. On January 25, 2007, Ponca Tribe committed nonfederal funds to acquire the property and buildings, an action that limits the choice of reasonable alternatives, before receiving an approved Request for Release of Funds.

Nature of Requirement: HUD's regulation at 24 CFR 58.22(a) requires that an environmental review be performed and a request for release of funds be completed and certified prior to the commitment of non-HUD funds to a project using HUD funds.

Granted by: Susan D. Peppler, Assistant Secretary for Community Planning and Development.

Date Granted: December 22, 2008.

Reason Waived: The waiver was granted based on the following findings: The project furthered HUD's program goal to develop viable Indian communities; the property was purchased in good faith and Ponca Tribe did not willfully violate the applicable regulations; no HUD funds were committed; and, an environmental assessment and a site visit by HUD staff concluded that the granting of the waiver will not result in any unmitigated, adverse environmental impact.

Contact: Danielle Schopp, Office of Environment and Energy, Office of Community Planning and Development, Department of Housing and Urban Development, 451 7th Street, SW., Room 7250, Washington, DC 20410-7000, telephone number (202) 402-4442.

• Regulation: 24 CFR 91.115(c)(2).

Project/Activity: The Commonwealth of Puerto Rico's Community Development Block Grant Program.

Nature of Requirement: The provisions of 24 CFR 91.115(c)(2) require that a minimum of 30 days be allowed for public comment following an amendment to a state's Consolidated Plan.

Granted by: Susan D. Peppler, Assistant Secretary for Community Development and Planning.

Date Granted: October 8, 2008.

Reason Waived: A reduced public comment period from 30 days to 7 days would allow the State to implement the amendment to the 2008 method of distribution and annual action plan expeditiously and enable the Commonwealth to provide assistance to affected UGLGs for disaster recovery in a timely manner. The Commonwealth's proposed amendment to reallocate recaptured funds or uncommitted funds for their current program year would provide the State with additional flexibility to address urgent needs quickly.

Contact: Diane Lobasso, Director, State and Small Cities Division, Office of Block Grant Assistance, Office of Community Planning and Development, Department of Housing and Urban Development, Room 7184, 451 7th Street, SW., Washington, DC 20410-7000, telephone number 202-402-2191.

• Regulation: 24 CFR 92.2 and 92.254(b)(2).

Project/Activity: Prince George's County requested a waiver of the regulatory definitions of “reconstruction” and “principal residence” to allow the County to assist an otherwise eligible homeowner whose home was demolished as the result of an environmental hazard.

Nature of Requirement: The HOME regulations define “reconstruction” in part, as rebuilding on the same lot, of housing standing on a site at the time of project commitment. Additionally, under HUD's regulations, housing owned by an income-eligible individual qualifies as affordable housing only if the housing is the principal residence of the owner at time HOME funds are committed to the project.

Granted by: Susan D. Peppler, Assistant Secretary for Community Planning and Development.

Date Granted: December 17, 2008.

Reason Waived: In early 2003, there was an oil spill at the homeowner's residence. As a result, the homeowner and the homeowner's family were unable to continue to live in the house and due to the nature of the spill, the home was condemned and demolished as an environmental hazard by the Maryland Department of Environment. The homeowner successfully sued the oil company but was not awarded sufficient damages to both remediate the hazard and reconstruct her home. The County wished to provide the homeowner with HOME funds to enable her to complete the restoration of her home and resume her residency there.

Contact: Virginia Sardone, Deputy Director, Office of Affordable Housing Programs, Office of Community Planning and Development, Department of Housing and Urban Development, 451 7th Street, SW., Room 7158, Washington, DC 20410-7000, telephone number 202-708-2470.

• Regulation: 24 CFR 92.252(e).

Project/Activity: The State of Iowa Department of Economic Development (IDED) requested a waiver of the period of affordability for the Riverview Apartments in Coralville, Iowa, due to severe flooding that ended the useful life of the project. The participating jurisdiction would have been required to repay $141,893 in HOME funds because the project failed to meet the affordability period.

Nature of Requirement: The HOME regulations at § 92.252(e) require a 5 year period of affordability for rehabilitation or acquisition for existing rental housing receiving less than $15,000 of HOME subsidy per unit.

Granted by: Susan D. Peppler, Assistant Secretary for Community Planning and Development.

Date Granted: December 16, 2008.

Reason Waived: On June 13, 2008, severe flooding caused significant damage to Riverview Apartments, requiring all tenants to be relocated. At the time of the HOME investment, the properties were not located in a flood plan. Therefore flood insurance had not been secured. The bids to repair and refurbish the apartments exceeded 75% of the property value. Due to the severity of the damage to the property, rehabilitation was determined to be infeasible and the City of Coralville has denied issuance of a building permit. HUD has determined that due to the damage caused to the 16 HOME rental units by the June 13, 2008, flood, the project has no remaining useful life and that good cause existed to waive the affordability period requirement.

Contact: Virginia Sardone, Deputy Director, Office of Affordable Housing Programs, Office of Community Planning and Development, Department of Housing and Urban Development, 451 7th Street, SW., Room 7158, Washington, DC 20410-7000, telephone number 202-708-2470.

• Regulation: 24 CFR 92.500(d)(1)(B).

Project/Activity: The Orange HOME Consortium—City of Orange, Texas, which is located within a presidentially-declared major disaster area pursuant to Title IV of the Robert T. Stafford Disaster Relief and Emergency Assistance Act, requested a waiver of its HOME Program commitment deadline requirement to facilitate its continued recovery from Hurricane Rita.

Nature of Requirement: The HOME regulations at 24 CFR 92.500(d)(1)(B) require that a participating jurisdiction (PJ) commit its annual allocation of HOME funds within 24 months after HUD notifies the PJ that HUD has executed the jurisdiction's HOME Investment Partnership Agreement. HUD must deobligate any HOME funds that a PJ has not committed under a legally binding written agreement by the deadline.

Granted by: Susan D. Peppler, Assistant Secretary for Community Planning and Development.

Date Granted: October 15, 2008.

Reason Waived: Hurricane Rita caused significant damage to structures throughout the Orange Consortium Area. In the City of Orange alone 97 homes were completely destroyed and 5,997 sustained damage. This unforeseen damage in the Consortium Area resulted in an increased workload for City staff. Subsequently, HOME program timelines were missed. Because of the program delays caused by the Hurricane Rita and the County's need for funds to address storm-related damage, HUD determined that there was good cause to suspend the County's commitment deadline requirement pursuant to Section 290 of the Cranston-Gonzalez National Affordable Housing Act as amended.

Contact: Virginia Sardone, Deputy Director, Office of Affordable Housing Programs, Office of Community Planning and Development, 451 7th Street, SW., Room 7164, Washington, DC 20410-7000, telephone number 202-708-2470.

• Regulation: 24 CFR 574.320(a)(2).

Project/Activity: The State of Florida and its project sponsor AIDS Help, Inc. use HOPWA tenant-based rental assistance (TBRA) to provide support to eligible recipients in Monroe County and Key West.

Nature of Requirement: The provisions of 24 CFR 574.320(a) require that grant funds for rental assistance must be used in accordance with a rent standard that is no more than the published section 8 fair market rent or the HUD-approved community-wide exception rent for the unit size. On a unit by unit basis, the grantee may increase that amount by up to 10% for up to 20% of the units assisted.

Granted by: Susan D. Peppler, Assistant Secretary for Community Planning and Development.

Date Granted: January 16, 2009.

Reason Waived: Current actual market rents far exceed fair market rents, so it is not possible for the grantee to procure rental units for eligible persons living with HIV/AIDS. The grantee adequately documents that the rents presently charged and received for comparable units in the private unassigned market are at 145% of those authorized under the HOPWA regulation.

Contact: David Vos, Office of HIV/AIDS Housing, Office of Community Planning and Development, Department of Housing and Urban Development, 451 7th Street, SW., Room 7212, Washington, DC 20410-7000, telephone 202-708-1934.

II. Regulatory Waivers Granted by the Office of Housing—Federal Housing Administration (FHA)

For further information about the following regulatory waivers, please see the name of the contact person that immediately follows the description of the waiver granted.

• Regulation: 24 CFR 5.801.

Project/Activity: Geneva Tower—Contract Numbers IA05-L000-001/IA05-M000-061, Cedar Rapids, Iowa. The owner submitted a written request to waive submission of annual financial statements for fiscal year ending July 31, 2008.

Nature of Requirement: HUD regulations at 24 CFR 5.801 implement uniform financial reporting standards for all HUD programs. Reports must be prepared in accordance with Generally Accepted Accounting Principles as further defined by HUD in supplementary guidance, submitted electronically to HUD through the Internet with reporting compliance dates.

Granted by: Brian D. Montgomery, Assistant Secretary for Housing—Federal Housing Commissioner.

Date Granted: November 10, 2008.

Reason Waived: The regulation was waived because a finding was made that failure to comply with the regulation were due to reasons beyond the owner's control. The property sustained flood damage on June 13, 2008. This damage destroyed the financial and tenant records as well as the equipment on the first floor. This waiver is granted for a period of one year for this project only. Providing waiver of this regulation allowed the much needed affordable housing to be preserved.

Contact: Beverly J. Miller, Director, Office of Asset Management, Office of Housing, Department of Housing and Urban Development, 451 7th Street, SW., Room 6l60, Washington, DC 20410-8000, telephone number 202-708-3730.

• Regulation: 24 CFR 200.926d(f)(1)(i) and (2)(i).

Project/Activity: Waiver applicable in the following boroughs of Alaska: Juneau, Mantanuska-Susitna, Anchorage, Bethel, North Slope (Barrow), Fairbanks (North Star and Southeast) and the Kenai Peninsula.

Nature of Requirement: Existing regulations require that new construction, to be eligible for FHA insurance, must be capable of delivering a flow of 5 gallons per minute (GPM) over a 4 hour period in order to provide a continuing and sufficient supply of water.

Granted by: Brian D. Montgomery, Assistant Secretary for Housing—Federal Housing Commissioner.

Date Granted: November 14, 2008.

Reason Waived: Waiving the regulations was granted so that new construction in the above-referenced boroughs of Alaska would be able to rely upon alternative sources of water. The alternative sources of water would allow the properties to become eligible for FHA-insured financing that are otherwise acceptable under state and local codes and where it is not feasible to procure water from conventional water systems.

Contact: Peter Gillispie, Home Valuation Policy Division, Office of Single Family Program Development, Office of Housing, Department of Housing and Urban Development, 451 7th Street, SW., Room 9270, Washington, DC 20410-8000, telephone number 202-708-2121.

• Regulation: 24 CFR 200.926d(f)(1)(i) and (2)(i).

Project/Activity: The waiver was requested for the following boroughs of Alaska: Juneau, Mantanuska-Susitna, Anchorage, Bethel, North Slope (Barrow), Fairbanks (North Star and Southeast) and the Kenai Peninsula.

Nature of Requirement: HUD's regulations at 24 CFR 200.926d(f)(1)(i) and (2)() require that new construction, to be eligible for FHA insurance, must be capable of delivering a flow of 5 gallons per minute (GPM) over a 4 hour period in order to provide a continuing and sufficient supply of water.

Granted by: Brian D. Montgomery, Assistant Secretary for Housing—Federal Housing Commissioner.

Date Granted: November 14, 2008.

Reason Waived: Waiving the regulations so that new construction in the above referenced boroughs of Alaska can rely upon alternative sources of water would allow the properties to become eligible for FHA-insured financing that are otherwise acceptable under state and local codes and where it is not feasible to procure water from conventional water systems.

Contact: Peter Gillispie, Home Valuation Policy Division, Office of Single Family Program Development, Office of Housing, Department of Housing and Urban and Development, 451 7th Street, SW., Room 9270, Washington, DC 20410-8000, telephone number 202-708-2121.

• Regulation: 24 CFR 2063.

Project/Activity: Home Equity Conversion Mortgages (HECM) originated by EverBank Mortgage between March 5, 2007 and April 2, 2008.

Nature of Requirement: Under the HECM program regulations, the expected average interest rate is used to calculate future payments to the HECM borrower by the establishment of the principal limit (future payments to the HECM borrower) and must be the same as the note interest rate.

Granted by: Brian D. Montgomery, Assistant Secretary for Housing—Federal Housing Commissioner.

Date Granted: December 2, 2008.

Reason Waived: EverBank Mortgage relied on guidance issued by FHA in Mortgagee Letters 2003-16 and 2006-22 but misinterpreted the requirement that the expected average mortgage interest rate must be the same as the HECM note interest rate. This misinterpretation resulted in EverBank originating 661 HECM loans where the expected average interest rate and the HECM note interest rate were different. It was determined that EverBank Mortgage's interpretation that the mortgagee letters permitted it to use a note rate that differed from the expected average interest rate was made in good faith, and it was determined that it would have been inequitable to require EverBank to receive a lower interest rate for the loans originated between March 5, 2007 and April 2, 2008.

Contact: Erica Jessup, Home Valuation Policy Division, Office of Single Family Program Development, Office of Housing, Department of Housing and Urban Development, 451 7th Street, SW., Washington, DC 20410.

• Regulation: 24 CFR 206.32(a).

Project/Activity: Home Equity Conversion Mortgages (HECM) in Genesee County, Michigan.

Nature of Requirement: Under the HECM program regulations, HECM borrowers may not incur additional debt in conjunction with HECM.

Granted by: Brian D. Montgomery, Assistant Secretary for Housing—Federal Housing Commissioner.

Date Granted: November 24, 2008.

Reason Waived: It was determined that the waiver would provide Metro Housing Partnership (MHP) of Genesee County, Michigan, with the authorization to provide secondary financing to eligible residents of Genesee County whose HECM proceeds are insufficient to satisfy existing property indebtedness or cover required expenses to secure the MHP loan.

Contact: Erica Jessup, Home Valuation Policy Division, Office of Single Family Program Development, Office of Housing, Department of Housing and Urban Development, 451 7th Street, SW., Room 9278, Washington, DC 20410-8000, telephone number 202-708-2121.

• Regulation: 24 CFR 219.220(b).

Project/Activity: St. Anthony Place, Pocatello, Idaho—FHA Project Number 124-EH019. The property has 88 units and requires renovations to continue as a well-maintained source of affordable housing. Refinancing will provide sufficient funds for needed capital improvements at the property.

Nature of Requirement: Section 219.220(b) of HUD's regulations, which governs the repayment of operating assistance provided under the Flexible Subsidy Program for Troubled Projects prior to May 1, 1996, states: “Assistance that has been paid to a project owner under this subpart must be repaid at the earlier of the expiration of the term of the mortgage, termination of mortgage insurance, prepayment of the mortgage, or a sale of the project * * *” Either of these actions would typically terminate FHA involvement with the property, and the Flexible Subsidy loan would be repaid, in whole, at that time.

Granted by: Brian D. Montgomery, Assistant Secretary for Housing-Federal Housing Commissioner.

Date Granted: October 29, 2008.

Reason Waived: This waiver was granted to allow the owner to amortize the flexible subsidy debt with the newly refinanced mortgage and to continue to operate the project after prepayment under a Use Agreement. There will be no monies leaving the project as a result of prepayment and there will be long-term preservation of this affordable housing.

Contact: Beverly J. Miller, Director, Office of Asset Management, Office of Housing, Department of Housing and Urban Development, 451 7th Street, SW., Room 6160, Washington, DC 20410-8000, telephone number 202 708-3730.

• Regulation: 24 CFR 219.220(b).

Project/Activity: The Russell House—FHA Project Number 051-EH013, Virginia Beach, Virginia. The property is a 119-unit Section 202 property and is in need of repairs.

Nature of Requirement: Section 219.220(b), which governs the repayment of operating assistance provided under the Flexible Subsidy Program for Troubled Projects prior to May 1, 1996, states: “Assistance that has been paid to a project owner under this subpart must be repaid at the earlier of the expiration of the term of the mortgage, termination of mortgage insurance, prepayment of the mortgage, or a sale of the project * * *” Either of these actions would typically terminate FHA involvement with the property, and the Flexible Subsidy loan would be repaid, in whole, at that time.

Granted by: Brian D. Montgomery, Assistant Secretary for Housing-Federal Housing Commissioner.

Date Granted: November 4, 2008.

Reason Waived: The waiver was granted to permit much needed repairs at the property. The owner planned to refinance the Section 202 mortgage with a Section 223(f) insured loan; at initial closing of the new loan, the owner will pay all accrued interest and a one-time principal payment, reducing the balance and amortize the flexible subsidy debt with the newly refinanced mortgage. It was determined that these measures would allow the project to be maintained as much needed affordable housing.

Contact: Beverly J. Miller, Director, Office of Asset Management, Office of Housing, Department of Housing and Urban Development, 451 7th Street, SW., Room 6160, Washington, DC 20410-8000, telephone number 202-708-3730.

• Regulation: 24 CFR 236.725.

Project/Activity: Genesee Gateway Houses (aka River Park Commons)—FHA Project Number 014-033NI, Rochester, New York. The Buffalo Multifamily Hub has requested waiver of the regulation to permit the continuation of Rental Assistance Payments after the payoff of the non-insured Section 236 mortgage under a Section 236(e)(2) Decoupling transaction.

Nature of Requirement: HUD regulations at 24 CFR 236.725 requires that the rental assistance contract shall be limited to the term of the mortgage or 40 years from the date of the first payment made under the contract, whichever is the lesser.

Granted by: Brian D. Montgomery, Assistant Secretary for Housing-Federal Housing Commissioner.

Date Granted: October 20, 2008.

Reason Waived: This waiver was granted predicated on the continuation of the Rental Assistance Payment assistance and required the developer to record a Use Agreement requiring the property to be maintained as a Section 236 low-income housing resource for 50 years from the closing of the Decoupling transaction. The Decoupling proposal plans for the demolition of the townhouse units, the relocation of all remaining residents, and the full renovation of the high-rise building.

Contact: Beverly J. Miller, Director, Office of Asset Management, Office of Housing, Department of Housing and Urban Development, 451 7th Street, SW., Room 6160, Washington, DC 20410-8000, telephone number 202-708-3730.

• Regulation: 24 CFR 891.100(d).

Project/Activity: WRC House, Incorporated, Dothan, AL, Project Number: 062-HD065/AL09-Q071-001.

Nature of Requirement: Section 891.100(d) prohibits amendment of the amount of the approved capital advance funds prior to initial closing.

Granted by: Brian D. Montgomery, Assistant Secretary for Housing—Federal Housing Commissioner.

Date Granted: October 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Ivy Residence II, Philadelphia, PA, Project Number: 034-EE153/PA26-S071-001.

Nature of Requirement: Section 891.100(d) prohibits amendment of the amount of the approved capital advance funds prior to closing.

Granted by: Brian D. Montgomery, Assistant Secretary for Housing—Federal Housing Commissioner.

Date Granted: October 21, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Morning Star Housing, Moline, IL, Project Number: 071-HD156/IL06-Q061-007.

Nature of Requirement: Section 891.100(d) prohibits amendment of the amount of the approved capital advance funds prior to closing.

Granted by: Brian D. Montgomery, Assistant Secretary for Housing—Federal Housing Commissioner.

Date Granted: October 24, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Opportunity House, Ketcikan, Alaska, Project Number: 176-HD030/AK06-Q071-002.

Nature of Requirement: Section 891.100(d) prohibits amendment of the amount of the approved capital advance funds prior to closing.

Granted By: Brian D. Montgomery, Assistant Secretary for Housing—Federal Housing Commissioner.

Date Granted: October 24, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: TRC Senior Village I, Chicago, IL, Project Number: 071-EE212/IL06-S051-006.

Nature of Requirement: Section 891.100(d) prohibits amendment of the amount of the approved capital advance funds prior to closing.

Granted by: Brian D. Montgomery, Assistant Secretary for Housing—Federal Housing Commissioner.

Date Granted: November 4, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Breakthrough Phase I, Knoxville, TN, Project Number: 087-HD051/TN37-Q071-002.

Nature of Requirement: Section 891.100(d) prohibits amendment of the amount of the approved capital advance funds prior to closing.

Granted by: Brian D. Montgomery, Assistant Secretary for Housing—Federal Housing Commissioner.

Date Granted: November 4, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Options Supportive Housing Project XIII, Shirley, NY, Project Number: 012-HD138/NY36-Q071-003.

Nature of Requirement: Section 891.100(d) prohibits amendment of the amount of the approved capital advance funds prior to closing.

Granted by: Brian D. Montgomery, Assistant Secretary for Housing—Federal Housing Commissioner.

Date Granted: December 3, 2008

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: ASI Owatonna, Owatonna, MN, Project Number: 092-HD070/MN46-Q071-001.

Nature of Requirement: Section 891.100(d) prohibits amendment of the amount of the approved capital advance funds prior to closing.

Granted by: Brian D. Montgomery, Assistant Secretary for Housing—Federal Housing Commissioner.

Date Granted: December 3, 2008

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Vista Gallinas, Las Vegas, NM, Project Number: 116-HD030/NM16-Q061-002.

Nature of Requirement: Section 891.100(d) prohibits amendment of the amount of the approved capital advance funds prior to closing.

Granted by: Brian D. Montgomery, Assistant Secretary for Housing—Federal Housing Commissioner.

Date Granted: December 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Burke Place Apartments, Forks, WA, Project Number: 127-HD040/WA19-Q071-004.

Nature of Requirement: Section 891.100(d) prohibits amendment of the amount of the approved capital advance funds prior to closing.

Granted by: Brian D. Montgomery, Assistant Secretary for Housing—Federal Housing Commissioner.

Date Granted: December 8, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Roberts Place Apartments, Monroe, LA, Project Number: 064-HD109/LA48-Q071-001.

Nature of Requirement: Section 891.100(d) prohibits amendment of the amount of the approved capital advance funds prior to closing.

Granted by: Brian D. Montgomery, Assistant Secretary for Housing—Federal Housing Commissioner.

Date Granted: December 9, 2008.

Reason Waived: The project is economically designed and comparable in cost to similar projects in the area, and the sponsor/owner exhausted all efforts to obtain additional funding from other sources.

Contact: Willie Spearmon, Director, Office of Housing Assistance and Grant Administration, Office of Housing. Department of Housing and Urban Development, 451 7th Street, SW., Room 6130, Washington, DC 20410-8000, telephone number 202-708-3000.

• Regulation: 24 CFR 891.100(d).

Project/Activity: Llangollen Hope House, New Castle, DE, Project Number: 032-HD035/DE26-Q061-001.

Nature of Requirement: Section 891.100(d) prohibits amendment of the amount of the approved capital advance funds prior to closing.

Granted by: Brian D. Montgomery, Assistant Secretary for Housing—Federal Housing Commissioner.

Date Granted: December 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Marian Heights, New Britain, CT, Project Number: 017-EE097/CT26-S061-001.

Nature of Requirement: Section 891.100(d) prohibits amendment of the amount of the approved capital advance funds prior to closing.

Granted by: Brian D. Montgomery, Assistant Secretary for Housing—Federal Housing Commissioner.

Date Granted: December 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Mosaic Housing XVII—Beatrice, Omaha, NE, Project Number: 103-HD036/ND99-Q071-001.

Nature of Requirement: Section 891.100(d) prohibits amendment of the amount of the approved capital advance funds prior to closing.

Granted by: Brian D. Montgomery, Assistant Secretary for Housing—Federal Housing Commissioner.

Date Granted: December 24, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: Prairie View Villas, Pekin, IL, Project Number: 072-HD152/IL06-Q071-001.

Nature of Requirement: Section 891.100(d) prohibits amendment of the amount of the approved capital advance funds prior to closing.

Granted by: Brian D. Montgomery, Assistant Secretary for Housing—Federal Housing Commissioner.

Date Granted: December 24, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d).

Project/Activity: St. Francis Xavier Apartments, McKean, PA, Project Number: 033-EE127/PA28-S061-001.

Nature of Requirement: Section 891.100(d) prohibits amendment of the amount of the approved capital advance funds prior to closing.

Granted by: Brian D. Montgomery, Assistant Secretary for Housing—Federal Housing Commissioner.

Date Granted: December 24, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Acres Homes Garden Apartments, Houston, TX, Project Number: 114-HD031/TX24-Q051-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 26, 2008.

Reason Waived: The project is economically designed and comparable in cost to similar projects in the area, and the sponsor/owner exhausted all efforts to obtain additional funding from other sources. The sponsor/owner required additional time to obtain additional funds.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Gabriel Place, Suffolk, VA, Project Number: 051-HD128/VA36-Q041-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 9, 2008.

Reason Waived: The project is economically designed and comparable in cost to similar projects in the area, and the sponsor/owner exhausted all efforts to obtain additional funding from other sources. The sponsor/owner required additional time to obtain additional funds.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.165.

Project/Activity: Providence Manor Apartments, Atlanta, GA, Project Number: 061-EE159/GA06-S061-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: December 24, 2008.

Reason Waived: The project is economically designed and comparable in cost to similar projects in the area, and the sponsor/owner exhausted all efforts to obtain additional funding from other sources. The sponsor/owner required additional time to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.100(d) and 24 CFR 891.320(b).

Project/Activity: Center of Hope, Southbridge, MA, Project Number: 023HD221/MA06-Q051-002.

Nature of Requirement: Section 891.100(d) prohibits amendment of the amount of the approved capital advance funds prior to initial closing. Section 891.320(b) provides projects should not be located adjacent to the following facilities: schools or daycare centers for persons with disabilities, workshops, medical facilities, or other housing primarily serving persons with disabilities, or in areas where such facilities are concentrated.

Granted by: Brian D. Montgomery, Assistant Secretary for Housing-Federal Housing Commissioner.

Date Granted: December 5, 2008.

Reason Waived: The project is economically designed and comparable in cost to similar projects in the area, and the sponsor/owner exhausted all efforts to obtain additional funding from other sources and the service plan is designed to promote the integration of the residents into the community.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Dauphin County VOA Living Center, Harrisburg, PA Project Number: 034-HD087/PA266-Q051-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 1, 2008.

Reason Waived: Additional time was needed for contractor to obtain a Performance Bond and for the project to be initially closed.

Contact: Willie Spearmon, Director, Office of Housing Assistance and Grant Administration, U.S. Department of Housing and Urban Development, 451 7th Street, SW., Washington, DC 20410, telephone number 202-708-3000.

• Regulation: 24 CFR 891.165.

Project/Activity: Garrett House, Wilmington, DE, Project Number: 032-HD036/DE26-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 10, 2008.

Reason Waived: The sponsor/owner needed additional time for the initial closing to take place.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Hale Maaolu Ehiku, Kihei-Maui, HI, Project Number:140-EE028/HI10-S021-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 10, 2008.

Reason Waived: The sponsor/owner needed additional time for this mixed finance project to secure the executed Recipient Agreements for HOME financing from the County of Maui and for initial/final closing to take place.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Kaaterskill Manor, Catskill, NY, Project Number: 014-EE252/NY06-S051-008.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 14, 2008.

Reason Waived: Additional time was needed for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Lyons Place, Dayton, OH, Project Number: 046-EE078/OH10-S051-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 17, 2008.

Reason Waived: The sponsor/owner needed additional time to complete the bond sales and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Transitional Services for New York, New York, NY, Project Number: 012-HD128/NY36-Q051-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 24, 2008.

Reason Waived: Additional time was needed for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Octavia Court, San Francisco, CA, Project Number:121-HD087/CA39-Q061-002.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: October 27, 2008.

Reason Waived: Additional time was needed to clarify issues with the firm commitment application and for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Clearlake Oaks Manor, Clearlake Oaks, CA, Project Number: 121-EE174/CA39-S041-005.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 29, 2008.

Reason Waived: The owner/sponsor needed additional time for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Victory Cathedral VOA Elderly Housing, Hartford, CT, Project Number: 017-EE098/CT26-S061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 30, 2008.

Reason Waived: The sponsor/owner needed additional time to resolve firm commitment application issues and for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Living Solutions II, Mora, MN, Project Number: 092-HD123/MN46-S061-009.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 2, 2008.

Reason Waived: The sponsor/owner needed additional time to complete the submission of initial closing documents and for the project to achieve an initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Capps Villa, Spartanburg, SC, Project Number: 054-HD115/SC16-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2008.

Reason Waived: Additional time was needed for the owner/sponsor to resolve an identity of interest issue with the site, for the firm commitment to be issued and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: JSDD Supportive Living II, Whippany, NJ, Project Number: 031-HD149/NJ39-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2008.

Reason Waived: The sponsor/owner needed additional time to secure secondary funding, for the firm commitment application to be processed, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Vista California Supportive Housing, Vista, CA, Project Number: 129-HD030/CA33-Q041-001.

Nature Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 3, 2008.

Reason Waived: The sponsor/owner needed additional time secure secondary funding, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Corozal Hope for the Elderly, Corozal, PR, Project Number: 056-EE064/RQ46-S041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 4, 2008.

Reason Waived: The sponsor/owner needed additional time to secure control of a new site and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Henderson Supportive Housing, Henderson, NV, Project Number: 125-HD074/NV25-Q061-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 4, 2008.

Reason Waived: The sponsor/owner needed additional time for the project to be initially closed.

Contact: Willie Spearmon, Director, Office of Housing Assistance and Grant Administration, Office of Housing, Department of Housing and Urban Development, 451 7th Street, SW., Room 6130, Washington, DC 20410-8000, telephone 202-708-3000.

• Regulation: 24 CFR 891.165.

• Project/Activity: Common Ground Senior Housing, Brooklyn, NY, Project Number: 012-EE338/NY36-S051-004.

• Nature of Requirement: Section 891.165 provides that the duration of the fund reservation of the capital advance is 18 months from the date of issuance with limited exceptions up to 24 months, as approved by HUD on a case-by-case basis.

• Granted by: Brian D. Montgomery, Assistant Secretary for Housing-Federal Housing Commissioner.

• Date Granted: November 4, 2008.

Reason Waived: The sponsor/owner needed additional time for the closing documents to be submitted and processed and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Victory Crest, Chillum, MD, Project Number: 000-EE066/MD39-S061-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 4, 2008.

Reason Waived: The sponsor/owner needed additional time for the firm commitment application to be reprocessed and for the project to be initially closed.

Contact: Willie Spearmon, Director, Office of Housing Assistance and Grant Administration, Office of Housing, Department of Housing and Urban Development, 451 7th Street, SW., Room 6130 Washington, DC 20410-8000, telephone number 202-708-3000.

• Regulation: 24 CFR 891.165.

Project/Activity: Llangollen Hope House, New Castle, DE, Project Number: 032-HD035/DE26-Q061-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 4, 2008.

Reason Waived: The sponsor/owner needed additional time to redesign the building, the firm commitment application to be processed, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Casitas on East Broadway, Tucson, AZ, Project Number: 123-EE104/AZ20-S061-010.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 8, 2008.

Reason Waived: The sponsor/owner needed additional time to clarify issues of the site plan review, secure secondary funding and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Oakridge Park Apartments, Lake Oswego, OR, Project Number: 126-EE059/OR16-S061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 12, 2008.

Reason Waived: The sponsor/owner needed additional time to resolve litigation issues and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Silvercrest Senior Housing, Briarwood, NY, Project Number: 012-EE349/NY36-S061-005.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 12, 2008.

Reason Waived: The sponsor/owner needed additional time for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Kappa House II Apartments, Cleveland, OH, Project Number: 042-EE206/OH12-S061-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: November 12, 2008.

Reason Waived: The sponsor/owner needed additional time to secure secondary funding, submit the firm commitment application, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Emerald Rose I Apartments, Burton, OH, Project Number: 042-HD141/OH12-Q061-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 12, 2008.

Reason Waived: The sponsor/owner needed additional time to secure secondary funding, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Mary Rose Estates, Willoughby, OH, Project Number: 042-EE208/OH12-S061-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 12, 2008.

Reason Waived: The sponsor/owner needed additional time to submit the firm commitment application and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Leonia Retirement Housing, Leonia, NJ, Project Number: 031-EE069/NJ39-S061-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 12, 2008.

Reason Waived: The sponsor/owner needed additional time for the firm commitment application to be processed and issued and for the project to be initially closed.

Contact: Willie Spearmon, Director, Office of Housing Assistance and Grant Administration, Office of Housing, Department of Housing and Urban Development, 451 7th Street, SW., Room 6130 Washington, DC 20410-8000, telephone number 202-708-3000.

• Regulation: 24 CFR 891.165.

Project/Activity: St. Francis Xavier Apartments, McKean, PA, Project Number: 033-EE127/PA26-S061-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 14, 2008.

Reason Waived: The sponsor/owner needed additional time for the firm commitment to be processed and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Arbor Court (fka Laurel Homes), Fresno, CA, Project Number: 121-HD083/CA39-Q041-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 14, 2008.

Reason Waived: The sponsor/owner needed additional time to secure additional funding, the firm commitment application to be processed and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Bernie's Blessing, Roxboro, NC, Project Number: 053-EE173/NC19-S061-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 17, 2008.

Reason Waived: The sponsor/owner needed additional time to resolve appraisal issues with the site, for the firm commitment to be issued, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Folsom Oaks, Folsom, CA, Project Number: 136-HD017/CA30-Q041-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 17, 2008.

Reason Waived: The sponsor/owner needed additional time for the firm commitment application to be processed and issued and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Tartan Village II, Kilmarnock, VA, Project Number: 051-EE111/VA36-S051-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 17, 2008.

Reason Waived: The sponsor/owner needed additional time to resolve site plan issues required by the Virginia Department of Transportation and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Saint Claire Court, Redding, CA, Project Number: 136-HD020/CA30-Q061-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 17, 2008.

Reason Waived: The sponsor/owner needed additional time for the site to be approved and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: North Highlands VOA Living Center, North Highlands, CA, Project Number: 136-HD019/CA30-Q061-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 18, 2008.

Reason Waived: The sponsor/owner needed more time to secure additional funding, submit the firm commitment application, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Lovejoy Road, North Andover, MA, Project Number: 023-HD220/MA06-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 18, 2008.

Reason Waived: The sponsor/owner needed additional time to modify architectural designs to satisfy new state requirements and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Desert Sol, Phoenix, AZ, Project Number: 123-HD040/AZ20-Q061-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 19, 2008.

Reason Waived: The sponsor/owner needed additional time to secure additional funding and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Sierra Manor II, Reno, NV, Project Number: 125-EE129/NV25-S061-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 19, 2008.

Reason Waived: The sponsor/owner needed additional time to secure additional funding, for approval of the new site, and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Eskaton Roseville Manor, Roseville, CA, Project Number: 136-EE081/CA30-S061-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 19, 2008.

Reason Waived: The sponsor/owner needed additional time to secure additional funding, obtain approval of the parcel split, submit the firm commitment application and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Shawnee Supportive Housing, Shawnee, KS, Project Number: 084-EE054/KS16-Q061-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 19, 2008.

Reason Waived: The sponsor/owner needed additional time to resolve development cost issues and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Accessible Space, Incorporated, Mesa, AZ, Project Number: 123-HD041/AZ20-Q061-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2008.

Reason Waived: The sponsor/owner needed additional time to secure additional funding and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Casa Del Pueblo II, Tucson, AZ, Project Number: 123-EE103/AZ20-S061-009.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: November 21, 2008.

Reason Waived: The sponsor/owner needed additional time for the city of Tucson to approve a lot split and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: NCR of East Dublin Granville Road, Columbus, OH, Project Number: 043-EE119/OH16-S061-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: December 10, 2008.

Reason Waived: The sponsor/owner needed additional time to resolve judgment liens and delinquent tax issues against the land seller and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Maranatha Housing, Amsterdam, NY, Project Number: 014-EE264/NY06-S061-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 16, 2008.

Reason Waived: The sponsor/owner needed additional time to submit the firm commitment application and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Parham House, Vista, CA, Project Number: 129-HD031/CA33-Q061-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 16, 2008.

Reason Waived: The sponsor/owner needed additional time to secure additional funds, resolve site issues, and for the project to reach initial closing.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Independence Manor III, Braintree, MA, Project Number: 023-EE169/MA06-S031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 17, 2008.

Reason Waived: The sponsor/owner needed additional time for Mass Housing Board to approve partial releases of two land parcels and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.165.

Project/Activity: Johnnie B. Moore Towers II, Atlanta, GA, Project Number: 061-EE160/GA06-S061-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 19, 2008.

Reason Waived: The sponsor/owner needed additional time for the firm commitment application to be processed and issued and for the project to be initially closed.

Contact: Willie Spearmon, Director, Office of Housing Assistance and Grant Administration, Office of Housing, Department of Housing and Urban Development, 451 7th Street, SW., Room 6130, Washington, DC 20410-8000, telephone number 202-708-3000.

• Regulation: 24 CFR 891.310(b)(1).

Project/Activity: Nassau AHRC Development 2005, North Baldwin, NY, Project Number: 012-HD129/NY36-Q051-003.

Nature of Requirement: Section 891.310(b)(1) requires that all entrances, common areas, units to be occupied by resident staff, and amenities must be readily accessible to and usable by persons with disabilities.

Granted by: Brian D. Montgomery, Assistant Secretary for Housing—Federal Housing Commissioner.

Date Granted: November 25, 2008.

Reason Waived: The cost to achieve full accessibility in both houses was determined not to be economical. The high acquisition cost of the houses coupled with costly renovations that would be necessary to make both houses accessible would be financially prohibitive.

Contact: Willie Spearmon, Director, Office of Housing Assistance and Grant Administration, Office of Housing, Department of Housing and Urban Development, 451 7th Street, SW., Room 6130, Washington, DC 20410-8000, telephone number 202-708-3000.

• Regulation: 24 CFR 891.165, 24 CFR 891.805, 24 CFR 891.830(b) and 891.830(c)(4).

Project/Activity: Armstrong Place, San Francisco, CA, Project Number: 121-EE194/CA39-S061-006.

Nature of Requirement: Section 891.165 provides that the duration of the fund reservation of the capital advance is 18 months from the date of issuance with limited exceptions up to 24 months, as approved by HUD on a case-by-case basis. Section 891.805 requires that the general partner in the for-profit limitied partnership be a Private Nonprofit Organization. Section 891.830(b) requires that capital advance funds be drawn down only in an approved ratio to other funds in accordance with a drawndown schedule approved by HUD. Section 891.830(c)(4) prohibits the capital advance funds from paying off bridge or construction financing, or repaying or collateralizing bonds.

Granted by: Brian D. Montgomery, Assistant Secretary for Housing—Federal Housing Commissioner.

Date Granted: November 20, 2008.

Reason Waived: Additional time was needed for the firm commitment to be issued and for the project to be initially/finally closed in order to not delay the construction of this mixed finance project and to allow other funds to pay for the construction of the project prior to release of the capital advance funds.

Contact: Willie Spearmon, Director, Office of Housing Assistance and Grant Administration, Office of Housing, Department of Housing and Urban Development, 451 7th Street, SW., Room 6130, Washington, DC 20410-8000, telephone number 202-708-3000.

• Regulation: 24 CFR 891.530 and 24 CFR 891.205.

Project/Activity: Rohlffs Memorial Manor—FHA Project Number 121-SH049, Napa California. The San Francisco Multifamily Hub has requested waiver of the requirement for nonprofit ownership of a Section 202 Property and waiver of the transfer of physical assets requirement.

Nature of Requirement: Under § 891.530, prepayment priviliges or the assignment or transfer of physical and financial assets of any Section 202 project is prohibited, unless HUD gives prior written approval. HUD may not grant approval unless it is determined that the loan is part of a transaction that will ensure the continued operation of the project until the original maturity date of the loan and at least as advantageous to existing and future tenants as the terms required by the original Section 202 loan agreement. Requirements set forth in § 891.205 apply to Section 202 Supportive Housing for the Elderly only and to applicants, sponsors and owners under that program. Section 891.205 relates to the definition of nonprofit organization, eligible applicants, and requirements for the acquisition of existing housing and related facilities to be used as supportive housing for the elderly.

Granted by: Brian D. Montgomery, Assistant Secretary for Housing—Federal Housing Commissioner.

Date Granted: October 16, 2008.

Reason Waived: This waiver was granted to allow the property to transfer ownership of the property to a Low Income Housing Tax credit limited partnership and subordinate the existing Section 202 loan at the time of sale to make way for a new first lien mortgage tied to the issuance of the tax-exempt bonds. Subordination of the Section 202 loan will allow the new ownership entity to make needed capital improvements to the property. The property is not eligible to prepay under Notice H 2002-16, instead, the existing loan will continue to amortize and will be subordinate to new tax credit financing. Payments on the existing Section 202 loan will continue until the maturity date of February 1, 2016. The benefits to the residents upon completion of the sale include continued affordability of the property to the tenants until 2063, a new 20-year Section 8 contract for 16 units currently under the contract; and expansion of the Service Coordinator program to work with the residents and family members.

Contact: Beverly J. Miller, Director, Office of Asset Management, Office of Housing, Department of Housing and Urban Development, 451 7th Street, SW., Room 6160, Washington, DC 20410-8000, telephone number 202-708-3730.

• Regulation: 24 CFR 891.805 and 24 CFR 891.830(b) and 891.830(c)(4).

Project/Activity: Leonia Retirement Housing II, Leonia, NJ, Project Number: 031-EE063/NJ39-S061-003.

Nature of Requirement: Section 891.805 requires that the general partner in the for-profit limitied partnership be a Private Nonprofit Organization. Section 891.830(b) requires that capital advance funds be drawn down only in an approved ratio to other funds in accordance with a draw down schedule approved by HUD. Section 891.830(c)(4) prohibits the capital advance funds from paying off bridge or construction financing, or repaying or collateralizing bonds.

Granted by: Brian D. Montgomery, Assistant Secretary for Housing—Federal Housing Commissioner.

Date Granted: November 19, 2008.

Reason Waived: The waiver of § 891.805 complies with statutory requirements that the entity be a nonprofit organization. The waiver was granted in order to not delay the construction of this mixed finance project and to allow other funds to pay for the construction of the project prior to draw down of the capital advance funds and to pay off that portion of bridge or construction financing that relate to capital advance eligible costs.

Contact: Willie Spearmon, Director, Office of Housing Assistance and Grant Administration, Office of Housing, Department of Housing and Urban Development, 451 7th Street, SW., Room 6130, Washington, DC 20410-8000, telephone number 202-708-3000.

• Regulation: 24 CFR 891.310(b)(1).

Project/Activity: Options Supportive Housing Project XIII, Shirley, NY, Project Number: 012-HD138/NY36-Q071-003.

Nature of Requirement: Section 891.310(b)(1) requires Section 811 project entrances, common areas, units to be occupied by resident staff, and amenities must be readily accessible to and usable by persons with disabilities.

Granted by: Brian D. Montgomery, Assistant Secretary for Housing—Federal Housing Commissioner.

Date Granted: December 25, 2008.

Reason Waived: The waiver was granted because it was determined that one bedroom and all common areas would be fully accessible in one of the homes resulting in 8 percent accessibility in the total property.

Contact: Willie Spearmon, Director, Office of Housing Assistance and Grant Administration, Office of Housing, Department of Housing and Urban Development, 451 7th Street, SW., Room 6130, Washington, DC 20410-8000, telephone number 202-708-3000.

• Regulation: 24 CFR 891.410(c).

Project/Activity: Corinthian Arbors, Corinth, Mississippi—FHA Project Number 065-EE001. The project is experiencing difficulty leasing units to the very low-income elderly.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: November 24, 2008.

Reason Waived: This waiver was granted to allow the managing agent to lease units to very low-income, near elderly applicants when there are no very low-income elderly applicants on the waiting list. Despite aggressive marketing the property continues to experience vacancies. It was determined that the waiver would allow stabilization of the project's current financial status and prevent foreclosure of the property.

Contact: Beverly J. Miller, Director, Office of Asset Management, Office of Housing, Department of Housing and Urban Development, 451 7th Street, SW., Room 6160, Washington, DC 20410-8000, telephone number 202-708-3730.

• Regulation: 24 CFR 891.410(c).

Project/Activity: John Fischer Manor—FHA Project Number 075-EH388, Appleton, Wisconsin. The property is located in a very rural area and has been experiencing difficulty in leasing units to the very-low income elderly.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: October 7, 2008.

Reason Waived: This regulatory waiver was granted to allow the owner to stabilize the project's current financial status and prevent foreclosure. It was determined that waiver of this regulation would permit admission of applicants who meet the definition of low-income, near elderly, enabling them to rent up the 13 vacant units currently existing at the property, and develop a waiting list. The commitment was made that first priority would be given to all qualified eligible applicants who meet the Section 202 very low-income guidelines.

Contact: Beverly J. Miller, Director, Office of Asset Management, Office of Housing, Department of Housing and Urban Development, 451 7th Street, SW., Room 6160, Washington, DC 20410-8000, telephone number 202-708-3730.

• Regulation: 24 CFR 891.410(c).

Project/Activity: Howard Wynne Villa—FHA Project Number 075-EE070, Reedsburg, Wisconsin. This project is located in a very rural area with few conveniences for senior citizens. The owner/managing agent has requested waiver of the very low-income and elderly restriction to permit admission of lower-income, near-elderly applicants to alleviate current vacancy problems at the property.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: October 7, 2008.

Reason Waived: This regulatory waiver was granted to assist the property with its current vacancy problems. There is insufficient demand to fill the units with very low-income elderly applicants. It was determined that the owner/managing agent would have the flexibility to lease to qualified low-income near elderly applicants only when there are no very low-income elderly applicants on the waiting list. The waiver was granted to allow the project to operate successfully and achieve full occupancy so that the project will not fail.

Contact: Beverly J. Miller, Director, Office of Asset Management, Office of Housing, Department of Housing and Urban Development, 451 7th Street, SW., Room 6160, Washington, DC 20410-8000, telephone number 202-708-3730.

• Regulation: 24 CFR 891.410(c).

Project/Activity: Maple Leaf Housing—FHA Project Number 103-EE006, Plymouth, Nebraska. This project is located in a very rural area with few conveniences for senior citizens. The owner/managing agent is having difficulty in maintaining full occupancy at the project.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: October 9, 2008.

Reason Waived: Waiver of this requirement was granted to allow the owner/managing agent flexibility in renting up vacant units. At the time the waiver was requested, the property had 6 vacant units with no one on the waiting list. It was determined that providing a waiver of the very low-income elderly restricting would assist in stabilizing the project's current financial status and prevent foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Shepherd Place Apartments—FHA Project Number 083-EH268, Carlisle, Kentucky. The owner has requested waiver of the age and income requirement for this Supportive Housing for the Elderly project to assist with the vacancy problems they are experiencing.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: December 3, 2008.

Reason Waived: Waiver of this regulation was granted to allow the owner/managing agent to rent vacant units to applicants who are low-income and near-elderly. The owner/managing agent has aggressively marketed the property with local housing authorities, news media, churches and various civic organizations. At the time the waiver was requested, the property had 3 vacant units and no waiting list. It was determined that providing for a waiver of this requirement would allow the project to stabilize its current financial status and prevent foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Douglas/Elkhorn Apartments, FHA Project Number 083-EE092, Phelps, Kentucky. Douglas/Elkhorn is a Supportive Housing for the Elderly project which is located in the rural Appalachian Mountain region with few amenities such as shopping, medical facilities and pharmacies, to attract qualified applicants.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: December 3, 2008.

Reason Waived: Waiver of the regulations governing age and income requirements was granted to permit admission of low-income, near elderly applicants. The owner/managing agent was unable to attract very low-income elderly persons despite aggressive marketing efforts with the local Central Wisconsin Action Council and news media. At the time the waiver was requested, the property had 6 vacant units and no waiting list. It was determined that the waiver would allow flexibility in renting units and allow the project to operate successfully and achieve full occupancy.

Contact: Beverly J. Miller, Director, Office of Asset Management, Office of Housing, Department of Housing and Urban Development, 451 7th Street, SW., Room 6160, Washington, DC 20410-8000, telephone 202-708-3730.

• Regulation: 24 CFR 891.410(c).

Project/Activity: Southwood Village—FHA Project Number 061-EE136, Cuthbert, Georgia. The project is experiencing difficulty in leasing units to the very low-income elderly. The project is located in a rural area with a countrywide population of approximately 7,791 residents.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: December 3, 2008.

Reason Waived: Waiver of the regulations governing age and income requirements was granted to permit admission of low-income, near elderly applicants. The owner/managing agent was unable to attract very low-income elderly persons despite aggressive marketing efforts through the local authorities, media and community organizations. At the time the waiver was requested, the property had 50 percent occupancy and was unable to maintain proper functioning of the project. It was determined that providing a waiver would allow the owner to rent up vacant units, thereby stabilizing the project's current financial status and prevent foreclosure.

Contact: Beverly J. Miller, Director, Office of Asset Management, Office of Housing, Department of Housing and Urban Development, 451 7th Street, SW., Room 6160, Washington, DC 20410-8000, telephone number 202-708-3730.

• Regulation: 24 CFR 891.410(c).

Project/Activity: Biimaadiiziiwiin—FHA Project Number 092-EE086, White Earth, Minnesota. This project is experiencing difficulty in maintaining sustaining occupancy.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: December 24, 2008.

Reason Waived: Waiver of the regulations governing age and income requirements was granted to assist the project in reaching full occupancy. The property is located on an Indian Reservation and there was insufficient demand to fill vacancies with very low-income elderly applicants. The owner/managing agent continued to market the property to all ethnic groups and with the local housing authorities and news media. It was determined that providing for this waiver would allow the owner/managing agent to expand their leasing options, and stabilize the project's current financial status and prevent foreclosure.

Contact: Beverly J. Miller, Director, Office of Asset Management, Office of Housing, Department of Housing and Urban Development, 451 7th Street, SW., Room 6160, Washington, DC 20410-8000, telephone number 202-708-3730.

• Regulation: 24 CFR 891.830(b).

Project/Activity: Common Ground Senior Housing, Brooklyn NY, Project Number: 012-EE338/NY36-S051-004.

Nature of Requirement: Section 891.830(b) requires that capital advance funds be drawn down only in an approved ratio to other funds in accordance with a drawndown schedule approved by HUD.

Granted by: Brian D. Montgomery, Assistant Secretary for Housing—Federal Housing Commissioner.

Date Granted: November 25, 2008.

Reason Waived: In order to limit the out-of-pocket interest costs of the mixed-financed owner, the waiver was granted to permit the capital advance funds to be drawn down using a different mechanism, than a pro rata basis. With this approval, the mixed-finance owner was able to keep the undisbursed bond proceeds invested, and the interest earned on the investment will be used to offset the interest that is accruing on the tax-exempt bonds, thereby reducing the cost to develop the project.

Contact: Willie Spearmon, Director, Office of Housing Assistance and Grant Administration, Office of Housing, Department of Housing and Urban Development, 451 7th Street, SW., Room 6134, Washington, DC 20410-8000, telephone number 202-798-3000.

• Regulation: 24 CFR 891.830(c)(4).

Project/Activity: Senior City, Federal Way, WA, Project Number: 127-EE061/WA19-S071-002.

Nature of Requirement: Section 891.830(c)(4) prohibits the capital advance funds from paying off bridge or construction financing, or repaying or collateralizing bonds.

Granted by: Brian D. Montgomery, Assistant Secretary for Housing—Federal Housing Commissioner.

Date Granted: October 30, 2008.

Reason Waived: The waiver was granted in order to not delay the construction of this mixed finance project and to allow other funds to pay for the construction of the project prior to release of the capital advance funds.

Contact: Willie Spearmon, Director, Office of Housing Assistance and Grant Administration, Office of Housing, Department of Housing and Urban Development, 451 7th Street, SW., Room 6134, Washington, DC 20410-8000, telephone number 202-798-3000.

• Regulation: 24 CFR 891.830(c)(4).

Project/Activity: Girard Manor Apartments, Warren, OH, Project Number: 042-EE216/OH12-S071-002.

Nature of Requirement: Section 891.830(c)(4) prohibits the capital advance funds from paying off bridge or construction financing, or repaying or collateralizing bonds.

Granted by: Brian D. Montgomery, Assistant Secretary for Housing—Federal Housing Commissioner.

Date Granted: December 29, 2008.

Reason Waived: In order to not delay the construction and to reduce the financing cost of the tax-exempt bonds, the waiver was granted to permit the capital advance funds to be drawn down using a different mechanism than a pro-rata share in order to collateralize the bonds.

Contact: Willie Spearmon, Director, Office of Housing Assistance and Grant Administration, Office of Housing, Department of Housing and Urban Development, 451 7th Street, SW., Room 6134, Washington, DC 20410-8000, telephone number (202) 798-3000.

III. Regulatory Waivers Granted by the Office of Public and Indian Housing

For further information about the following regulatory waivers, please see the name of the contact person that immediately follows the description of the waiver granted.

• Regulation: 24 CFR 5.801.

Project/Activity: New York City Department of Housing Preservation and Development, (NY110), New York, NY.

Nature of Requirement: HUD's regulation at 24 CFR 5.801 establishes certain reporting compliance dates. The audited financial statements are required to be submitted to the Real Estate Assessment Center (REAC) no later than 9 months after the housing authority's (HA) fiscal year end (FYE), in accordance with the Single Audit Act and OMB Circular A-133.

Granted by: Paula O. Blunt, General Deputy Assistant Secretary for Public and Indian Housing.

Date Granted: October 15, 2008.

Reason Waived: The HA requested a waiver of the Uniform Financial Reporting Standards (UFRS) audited electronic submission requirements for the Financial Assessment Subsystem (FASS) for FYE December 31, 2007, and December 31, 2008, since the City of New York has a June 30 FYE. The HA was approved for a FYE change to June 30 to correspond with the City of New York FYE. Because, the HA is a Section 8 only entity and is part of the City of New York, the waiver grants the HA additional time to submit its FYE December 31, 2007, audited financial data by not later than March 31, 2009, and it's audited financial data for the period of January 1, 2008 through June 30, 2009, by no later than March 31, 2010.

Contact: Myra E. Newbill, Program Manager, Real Estate Assessment Center, Office of Public and Indian Housing, Department of Housing and Urban Development, 550 12th Street, SW., Suite 100, Washington, DC 20410-5000, telephone number 202-475-8988.

• Regulation: 24 CFR 5.801.

Project/Activity: Housing Authority of the City of Rockwall, Rockwall, TX.

Nature of Requirement: HUD's regulation at 24 CFR 5.801 establishes certain reporting compliance dates. The audited financial statements are required to be submitted to the Real Estate Assessment Center (REAC) no later than 9 months after the housing authority's (HA) fiscal year end (FYE) in accordance with the Single Audit Act, and OMB Circular A-133.

Granted by: Paula O. Blunt, General Deputy Assistant Secretary for Public and Indian Housing.

Date Granted: October 16, 2008.

Reason Waived: The HA's audited financial submission for FYE September 30, 2007, was rejected by the Financial Assessment Subsystem (FASS) staff and the HA was given 15 days to correct and resubmit the financial data. The HA made the corrections but failed to “click” the submit button. As a result, the submission was not electronically submitted to the REAC by the resubmission due date causing the HA to receive a Late Presumptive Failure (LPF) score of zero. The waiver granted invalidation of the LPF and resubmission of the audited financial data.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: Housing Authority of the City of Stanton, Stanton, TX.

Nature of Requirement: HUD's regulation at 24 CFR 5.801 establishes certain reporting compliance dates. The audited financial statements are required to be submitted to the Real Estate Assessment Center (REAC) no later than nine months after the housing authority's (HA) fiscal year end (FYE) in accordance with the Single Audit Act and OMB Circular A-133.

Granted by: Paula O. Blunt, General Deputy Assistant Secretary for Public and Indian Housing.

Date Granted: November 14, 2008.

Reason Waived: The HA's audited financial data for FYE December 31, 2007, was completed and inputted into the on-line system and ready for auditor review. The auditor was unable to complete the agreed upon procedure portion of the financial submission due to system access problems that could not be corrected in time because the HA's Executive Director broke her leg just two weeks prior to the audited financial submission due date resulting in the HA receiving a Late Presumptive Failure (LPF) score of zero for its financial submission. The waiver was granted because the circumstances that prevented the HA from submitting the audited financial data by the due date were beyond the control of the HA.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 5.801.

Project/Activity: Englewood Housing Authority, Englewood, NJ.

Nature of Requirement: HUD's regulation at 24 CFR 5.801 establishes certain reporting compliance dates. The audited financial statements are required to be submitted to the Real Estate Assessment Center (REAC) no later than 9 months after the housing authority's (HA) fiscal year end (FYE) in accordance with the Single Audit Act and OMB Circular A-133.

Granted by: Paula O. Blunt, General Deputy Assistant Secretary for Public and Indian Housing.

Date Granted: November 20, 2008.

Reason Waived: The HA's audited financial submission for FYE December 31, 2007, was rejected by the Financial Assessment Subsystem (FASS) staff and the HA was given 15 days to correct and resubmit the financial data. Due to medical issues and communication error with their auditor, the submission was not electronically submitted to the REAC by the resubmission due date resulting in a Late Presumptive Failure (LPF) score of zero. The waiver was granted because the circumstances that prevented the HA from resubmitting the audited financial data by the due date were beyond the control of the HA.

Contact: Myra E. Newbill, Program Manager, Real Estate Assessment Center, Office of Public and Indian Housing, Department of Housing and Urban Development, 550 12th Street, SW., Suite 100, Washington, DC 20410-5000, telephone number 202-475-8988.

• Regulation: 24 CFR 5.801.

Project/Activity: Town of Brookhaven Housing Authority, Farmingdale, NY.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: November 20, 2008.

Reason Waived: The HA, a Section 8-only entity, requested additional time to submit their FYE December 31, 2007, audit financial submission because the town's fixed asset records were not finalized. Accordingly, the Town of Brookhaven requested and received a Single Audit extension to December 10, 2008, to submit the audited financial data.

Contact: Myra E. Newbill, Program Manager, Real Estate Assessment Center, Office of Public and Indian Housing, Department of Housing and Urban Development, 550 12th Street, SW., Suite 100, Washington, DC 20410-5000, telephone number 202-475-8988.

• Regulation: 24 CFR 5.801.

Project/Activity: Amsterdam Housing Authority, Amsterdam, NY.

Nature of Requirement: HUD's regulation at 24 CFR 5.801 establishes certain reporting compliance dates. The audited financial statements are required to be submitted to the Real Estate Assessment Center (REAC) no later than 9 months after the housing authority's (HA) fiscal year end (FYE), in accordance with the Single Audit Act and OMB Circular A-133.

Granted by: Paula O. Blunt, General Deputy Assistant Secretary for Public and Indian Housing.

Date Granted: November 26, 2008.

Reason Waived: The HA was unaware that their auditor was under a suspension order from the New York State Board of Public Accountants. The suspension prohibits auditors from providing audits or attesting under Government Accounting Standards. Subsequently, the HA retained a new auditor. The waiver was granted because the circumstances preventing resubmission by the due date were beyond the control of the HA.

Contact: Myra E. Newbill, Program Manager, Real Estate Assessment Center, Office of Public and Indian Housing, Department of Housing and Urban Development, 550 12th Street, SW., Suite 100, Washington, DC 20410-5000, telephone number 202-475-8988.

• Regulation: 24 CFR 5.801.

Project/Activity: Fort Worth Housing Authority, Fort Worth, TX.

Nature of Requirement: HUD's regulation at 24 CFR 5.801 establishes certain reporting compliance dates. The audited financial statements are required to be submitted to the Real Estate Assessment Center (REAC) no later than 9 months after the housing authority's (HA) fiscal year end (FYE), in accordance with the Single Audit Act and OMB Circular A-133.

Granted by: Paula O. Blunt, General Deputy Assistant Secretary for Public and Indian Housing.

Date Granted: December 4, 2008.

Reason Waived: The HA audited financial submission for FYE December 31, 2007, was rejected by the Financial Assessment Subsystem (FASS) staff and the HA was given 15 days to correct and resubmit the financial data. However, as result of a technical computer problem, corrections and the resubmission were not submitted to the REAC by the due date causing the HA to receive a Late Presumptive Failure (LPF) score of zero. The waiver was granted because the circumstances that prevented the HA from resubmitting were beyond the control of the HA.

Contact: Myra E. Newbill, Program Manager, Real Estate Assessment Center, Office of Public and Indian Housing, Department of Housing and Urban Development, 550 12th Street, SW., Suite 100, Washington, DC 20410-5000, telephone number 202-475-8988.

• Regulation: 24 CFR 5.801.

Project/Activity: Viroqua Housing Authority, Viroqua, WI.

Nature of Requirement: HUD's regulation at 24 CFR 5.801 establishes certain reporting compliance dates. The audited financial statements are to be submitted to the Real Estate Assessment Center (REAC) no later than 9 months after the housing authority's (HA) fiscal year end (FYE), in accordance with the Single Audit Act and OMB Circular A-133.

Granted by: Paula O. Blunt, General Deputy Assistant Secretary for Public and Indian Housing.

Date Granted: December 24, 2008.

Reason Waived: The due date of the financial audit was extended and the zero score for Late Presumptive Failure was removed due to temporary incapacitation of the auditor.

Contact: Myra E. Newbill, Program Manager, Real Estate Assessment Center, Office of Public and Indian Housing, Department of Housing and Urban Development, 550 12th Street, SW., Suite 100, Washington, DC 20410-5000, telephone number 202-475-8988.

• Regulation: 24 CFR 5.801.

Project/Activity: Housing Authority of St. Louis County, St. Louis, MO.

Nature of Requirement: HUD's regulation at 24 CFR 5.801 establishes certain reporting compliance dates. The audited financial statements are to be submitted to the Real Estate Assessment Center (REAC) no later than 9 months after the housing authority's (HA) fiscal year end (FYE), in accordance with the Single Audit Act and OMB Circular A-133.

Granted by: Paula O. Blunt, General Deputy Assistant Secretary for Public and Indian Housing.

Date Granted: December 30, 2008.

Reason Waived: The due date of the financial audit was extended due to a communications error between the HA and auditor.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.20.

Project/Activity: Housing Authority of the City of Opelousas, Opelousas, LA.

Nature of Requirement: The objective of this regulation is to determine whether a housing authority (HA) is meeting the standard of decent, safe, sanitary, and in good repair for its developments. The Real Estate Assessment Center (REAC) provides for an independent physical inspection of a HA's property of properties that includes a statistically valid sample of the units.

Granted by: Paula O. Blunt, General Deputy Assistant Secretary for Public and Indian Housing.

Date Granted: October 27, 2008.

Reason Waived: The HA requested a waiver from physical inspections for the fiscal year ending June 30, 2008, due to severe damage to multiple units/buildings at all of the HA's sites incurred during Hurricanes Gustav and Ike. The waiver was granted based on confirmation provided by the New Orleans Field Office's on-site visit. The circumstances surrounding the waiver were beyond the HA's control.

Contact: Myra E. Newbill, Program Manager, NASS, Real Estate Assessment Center, Office of Public and Indian Housing, Department of Housing and Urban Development, 550 12th Street, SW., Suite 100, Washington, DC 20410-5000, telephone number 202-475-8988.

• Regulation: 24 CFR 902.20.

Project/Activity: Housing Authority of the City of Beaumont, Beaumont, TX

Nature of Requirement: The objective of this regulation is to determine whether a housing authority (HA) is meeting the standard of decent, safe, sanitary, and in good repair. The Real Estate Assessment Center (REAC) provides for an independent physical inspection of all HA's property of properties that includes a statistically valid sample of the units.

Granted by: Paula O. Blunt, General Deputy Assistant Secretary for Public and Indian Housing.

Date Granted: November 20, 2008.

Reason Waived: The HA requested a waiver from physical inspections for fiscal year ending (FYE) September 30, 2008, due to severe damage to all the development sites during Hurricane Ike. The waiver was granted based on confirmation of the damages by the Houston Field Office. The circumstances surrounding the waiver are beyond the HA's control.

Contact: Myra E. Newbill, Program Manager, Real Estate Assessment Center, Office of Public and Indian Housing, Department of Housing and Urban Development, 550 12th Street, SW., Suite 100, Washington, DC 20410-5000, telephone number 202-475-8988.

• Regulation: 24 CFR 941.606(n)(1)(ii)(B).

Project/Activity: Muncie Housing Authority (MHA), Muncie, IN

Nature of Requirement: The regulation states that if the partner and/or owner entity wants to serve as the general contractor, it may award itself the construction contract only if it can demonstrate to HUD's satisfaction that its bid is the lowest, competitive bid.

Granted by: Paula O. Blunt, General Deputy Assistant Secretary for Public and Indian Housing.

Date Granted: October 28, 2008.

Reason Waived: The waiver was granted because MHA's third party cost estimate had construction and infrastructure costs less than the construction analysis.

Contact: Dominique Blom, Deputy Assistant Secretary for the Office of Public Housing Investments, Office of Public and Indian Housing, Department of Housing and Urban Development, 451 7th Street, SW., Room 4130, Washington, DC 20140-5000, telephone number 202-402-4181.

• Regulation: 24 CFR 941.606(n)(l)(ii)(B).

Project/Activity: Charleston Kanawha Housing Authority (CKHA) Charleston, WV

Nature of Requirement: This regulation requires that if the owner entity wants to serve as a general contractor, it may award itself the construction contract only if it can demonstrate to HUD's satisfaction that its bid is the lowest, competitive bid.

Granted by: Paula O. Blunt, General Deputy Assistant Secretary for Public and Indian Housing.

Date Granted: October 31, 2008.

Reason Waived: The waiver was granted because CKHA submitted a certification by an independent estimator that the plans, specifications and construction costs were reasonable for the market area.

Contact: Dominique Blom, Deputy Assistant Secretary for the Office of Public Housing Investments, Office of Public and Indian Housing, Department of Housing and Urban Development, 451 7th Street, SW., Room 4130, Washington, DC 20140-5000, telephone number 202-402-4181.

• Regulation: 24 CFR 941.606(n)(l)(ii)(B).

Project/Activity: San Antonio Housing Authority (SAHA), San Antonio, TX

Nature of Requirement: The regulation requires that if the owner entity wants to serve as a general contractor, it may award itself the construction contract only if it can demonstrate to HUD's satisfaction that its bid is the lowest, competitive bid.

Granted by: Paula O. Blunt, General Assistant Deputy Secretary for Public and Indian Housing.

Date Granted: December 16, 2008.

Reason Waived: The waiver was granted because SAHA submitted an independent cost estimate verifying that the contractor's square foot cost was less than construction estimates.

Contact: Dominique Blom, Deputy Assistant Secretary for the Office of Public Housing Investments, Office of Public and Indian Housing, 451 7th Street, SW., Room 4130, Washington, DC 20140-5000, telephone number 202-402-4181.

• Regulation: 24 CFR 941.606(n)(l)(ii)(B).

Project/Activity: Housing Authority of the City of Texarkana (HATT), Texarkana, TX.

Nature of Requirement: The regulation requires that if the owner entity wants to serve as a general contractor, it may award itself the construction contract only if it can demonstrate to HUD's satisfaction that its bid is the lowest, competitive bid.

Granted by: Paula O. Blunt, General Assistant Deputy Secretary for Public and Indian Housing.

Date Granted: December 24, 2008.

Reason Waived: The waiver was granted because HATT submitted an independent cost estimate for Covington Townhomes Phase II. The estimate provided by the affiliate of the developer illustrated that the residential construction costs were below the independent cost review prepared. As cost was below that of the independent cost estimates, HUD's condition is satisfied.

Contact: Dominique Blom, Deputy Assistant Secretary for the Office of Public Housing Investments, Office of Public and Indian Housing, 451 7th Street, SW., Room 4130, Washington, DC 20140-5000, telephone number 202-402-4181.

• Regulation: 24 CFR 941.610(a)(1)-(a)(7).

Project/Activity: Charleston Kanawha Housing Authority, Charleston, WV.

Nature of Requirement: This regulation requires HUD review and approval of certain legal documents relating to mixed-finance development prior to closing and release of funds.

Granted by: Paula Blunt, General Deputy Assistant Secretary for Public and Indian Housing.

Date Granted: October 29, 2008.

Reason Waived: The waiver was granted to streamline the review and expedite closing. Justification included the fact that CRH Phase 3 has the same unit mix, partners, financing and legal documents as approved by HUD in 2006 for CRH Phase 1.

Contact: Dominique Blom, Deputy Assistant Secretary for the Office of Public Housing Investments, Office of Public and Indian Housing, Department of Housing and Urban Development, 451 7th Street, SW., Room 4130, Washington, DC 20410-5000, telephone number 202-402-4181.

• Regulation: 24 CFR 941.610(a)(1)-(a)(7).

Project/Activity: San Antonio Housing Authority(SAHA), San Antonio, TX.

Nature of Requirement: This regulation requires HUD review and approval of certain legal documents relating to mixed-finance development prior to closing and release of funds.

Granted by: Paula Blunt, General Deputy Assistant Secretary for Public and Indian Housing.

Date Granted: December 16, 2008.

Reason Waived: The waiver was granted to streamline the review and expedite closing. Justification included the findings that SAHA has extensive mixed-finance experience and that the development partners have experience in both HOPE VI and mixed-finance.

Contact: Dominique Blom, Deputy Assistant Secretary for the Office of Public Housing Investments, Office of Public and Indian Housing, Department of Housing and Urban Development, 451 7th Street, SW., Room 4130, Washington, DC 20410-5000, telephone number 202-402-4181.

• Regulation: 24 CFR 941.610(a)(1)-(a)(7).

Project/Activity: Housing Authority of the City of Milwaukee (HACM), Milwaukee, WI.

Nature of Requirement: This regulation requires HUD review and approval of certain legal documents relating to mixed-finance development prior to closing and release of funds.

Granted by: Paula Blunt, General Deputy Assistant Secretary for Public and Indian Housing.

Date Granted: December 19, 2008.

Reason Waived: The waiver was granted to streamline the review and expedite closing. Justification included the findings that HACM has extensive experience through four existing HOPE VI projects with mixed financing.

Contact: Dominique Blom, Deputy Assistant Secretary for the Office of Public Housing Investments, Office of Public and Indian Housing, Department of Housing and Urban Development, 451 7th Street, SW., Room 4130, Washington, DC 20410-5000, telephone number 202-402-4181.

• Regulation: 24 CFR 982.505(c)(3).

Project/Activity: Columbus Housing Authority (CHA), Columbus, Georgia.

Nature of Requirement: HUD's regulation at 24 CFR 982.505(c)(3) states that if the amount on the payment standard (PS) schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: October 2, 2008.

Reason Waived: The CHA requested a waiver of PS requirements to permit it to implement reduced PSs earlier than required to avoid termination of housing assistance payments (HAP) contracts during calendar year 2008 due to insufficient funding. The waiver was granted because this cost-saving measure would enable the CHA to both manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the City of Los Angeles (HACLA), Los Angeles, CA.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: October 17, 2008.

Reason Waived: The HACLA requested a waiver regarding exception payment standards so that it could provide a reasonable accommodation to persons with disabilities. The participant is a 19-year-old woman that is the legal guardian of her five siblings including one, a nine-year-old disabled child with Downs Syndrome who needs to remain in his current unit as it is well suited to accommodating his disability. She was also paying approximately 65 percent of the family's adjusted income toward her share of the rent as a result of a large rent increase. To provide a reasonable accommodation so that this participant would pay no more than 40 percent of her adjusted income toward the family share, the HACLA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Sioux Falls Housing and Redevelopment Commission (SFHRC), Sioux Falls, South Dakota.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: October 24, 2008.

Reason Waived: The SFHRC requested a waiver regarding exception payment standards so that it could provide a reasonable accommodation to persons with disabilities. The applicant, a single person with disabilities, required an accessible, two-bedroom ground floor unit in close proximity to the medical facility where care is received. To provide a reasonable accommodation so that this applicant would pay no more than 40 percent of her adjusted income toward the family share, the SFHC was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of Asotin County (HAAC), Clarkston, WA.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: November 24, 2008.

Reason Waived: The HAAC requested a waiver regarding exception payment standards so that it could provide a reasonable accommodation to a person with disabilities. The applicant, who is unable to walk, needed to remain in her current wheelchair accessible three-bedroom mobile home as documented by her physician. To provide a reasonable accommodation so that this applicant would pay no more than 40 percent of her adjusted income toward the family share, the HAAC was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Georgia Department of Community Affairs (GDCA), Carrollton, GA.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: November 12, 2008.

Reason Waived: The GDCA requested a waiver regarding exception payment standards so that it could provide a reasonable accommodation to a person with disabilities. The participant, who is a person with disabilities that required a single-family home, was required to move to a unit that had limited carpeting and was free of mildew, mold, mice droppings and inadequate heating. To provide a reasonable accommodation so that this participant would pay no more than 40 percent of her adjusted income toward the family share, the GDCA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of the City of Los Angeles (HACLA), Los Angeles, CA.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: November 6, 2008.

Reason Waived: The HACLA requested a waiver regarding exception payment standards so that it could provide a reasonable accommodation to a person with disabilities. The participant, who is a paraplegic, was required to move to a ground level wheelchair-accessible unit as verified by her physician. To provide a reasonable accommodation so that participant payment was no more than 40 percent of her adjusted income, the HACLA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Alaska Housing Finance Corporation (AHFC), Anchorage, AK

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: November 6, 2008.

Reason Waived: The AHFC requested a waiver regarding exception payment standards so that it could provide a reasonable accommodation to persons with disabilities. The applicant, a disabled single-member family with significant respiratory issues and very limited mobility, was unable to locate an accessible unit within the AHFC's maximum payment standard. To provide a reasonable accommodation so that this applicant would pay no more than 40 percent of his adjusted income toward the family share, the AHFC was allowed to approve an exception payment standard that exceeded the basic range of 90 to 110 percent of the FMR for an accessible unit.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(c)(3).

Project/Activity: Boone County Housing Authority (BCHA), Boone County, IL.

Nature of Requirement: HUD's regulation at 24 CFR 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: December 10, 2008.

Reason Waived: The BCHA requested a waiver of payment standard (PS) requirements to permit it to implement reduced PSs earlier than required to avoid termination of housing assistance payments (HAP) contracts during calendar year 2009 due to insufficient funding. The waiver was granted because this cost-saving measure would enable the BCHA to both manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of Thurston County (HATC), Olympia, WA.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: December 23, 2008.

Reason Waived: The HATC requested a waiver regarding exception payment standards so that it could provide a reasonable accommodation to a person with disabilities. The participant, who is unable to walk, was unable to search for a new unit as documented by her health care provider. Consequently, the participant was paying over 75 percent of her monthly adjusted income toward her family share. To provide a reasonable accommodation so participant payment was no more than 40 percent of her adjusted income, the HALC was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 982.505(d).

Project/Activity: Housing Authority of Lincoln County (HALC), Newport, OR.

Nature of Requirement: HUD's regulation at 24 CFR 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: October 2, 2008.

Reason Waived: The HAS requested a waiver of requirements regarding the Agreement to Enter Into a Housing Assistance Payments (HAP) Contract (Agreement) to permit it to continue rental assistance under a HAP contract for Verandah Apartments. The waiver was granted since the project was financed with a FHA 221(d)(4) insured mortgage and the financing source was subject to the same requirements as the Agreement. The Georgia Office of Multifamily Housing verified that the property complied with the requirements of the Agreement.

Contact: Laure Rawson, Acting Director, Housing Voucher Management and Operations Division, Office of Public Housing and Voucher Programs, Office of Public and Indian Housing, Department of Housing and Urban Development, 451 7th Street, SW., Room 4210, Washington, DC 20410-5000, telephone number 202-708-0477.

• Regulation: 24 CFR 984.303(b)(2).

Project/Activity: State of California Department of Housing and Community Development; Sacramento, CA.

Nature of Requirement: HUD's Family Self-Sufficiency (FSS) program regulation at 24 CFR 984.303(b)(2) requires each FSS family that is receiving welfare assistance have an interim goal of being welfare-free for at least one year before the expiration of the term of their FSS Contract of Participation.

Granted by: Paula O. Blunt, General Deputy Assistant Secretary for Public and Indian Housing.

Date Granted: December 30, 2008.

Reason Waived: Although the FSS program participant was welfare-free and had complied with all other aspects of her FSS Contract of Participation, serious health problems prevented her from completing the interim goal within the term of her FSS contract. The waiver allowed the participant to receive the FSS escrow funds that were calculated based on the increases in her earned income during the term of her FSS contract.

Contact: Laure Rawson, Acting Director, Housing Voucher Management and Operations Division, Office of Public Housing and Voucher Programs, Office of Public and Indian Housing, Department of Housing and Urban Development, 451 7th Street, SW., Room 4210, Washington, DC 20410-5000, telephone 202-708-0477.

• Regulation: 24 CFR 990.185(a).

Project/Activity: Housing Authority of the County of Chester (HACC), West Chester, PA.

Nature of Requirement: The Energy Policy Act of 2005 amended Section 9(e)(2)(C) of the Housing Act of 1937 by changing the contract period from 12 to 20 years, yet HUD's regulation at 24 CFR 990.185(a) had not yet conformed to the amended statutory period and continued to present a maximum period of 12 years.

Granted by: Paula O. Blunt, General Deputy Assistant Secretary for Public and Indian Housing.

Date Granted: November 21, 2008.

Reason Waived: HACC was undertaking an energy project and anticipated energy conservation measures whose life cycle expectations and costs were expected to exceed the 12-year regulatory limitation in 24 CFR 990.185(a). Based upon anticipated savings and benefits to HACC and its residents, the waiver was granted to allow a longer payback period, contingent on HUD's provisions.

Contact: Nicole Faison, Director, Office of Public Housing Programs, Office of Public and Indian Housing, Department of Housing and Urban Development, 451 7th Street, SW., Room 4226, Washington, DC 20410-5000, telephone number 202-708-0744.

• Regulation: 24 CFR 990.315.

Project/Activity: San Francisco Housing Authority (SFHA), San Francisco, CA.

Nature of Requirement: The regulation requires timely submission of operating budgets for HUD approval.

Granted by: Paula O. Blunt, General Deputy Assistant Secretary for Public and Indian Housing.

Date Granted: November 24, 2008.

Reason Waived: The deadline requirement was waived and extended because HUD requested revised alignments of asset management projects, causing re-negotiation of labor agreements simultaneously with the appointment of a new Executive Director.

Contact: Gregory A. Byrne, Director, Financial Management Division, Real Estate Assessment Center, Office of Public and Indian Housing, Department of Housing and Urban Development, 550 12th Street, SW., Suite 100, Washington, DC 20410-5000, telephone number 202-475-8632.

• Regulation: 24 CFR 1000.224.

Project/Activity: Village of Stony River, Alaska.

Nature of Requirement: HUD's regulation at 24 CFR 1000.224 provides authority to waive Indian Housing Plan (IHP) requirements when there are circumstances beyond the control of the Tribe.

Granted by: Paula O. Blunt, General Deputy Assistant Secretary for Public and Indian Housing.

Date Granted: November 21, 2008.

Reason Waived: The Alaska Village Council of Presidents Regional Housing Authority (AVCPRHA) is the Tribally designated housing entity (TDHE) for 48 Tribes, including the Stony River Traditional Council (SRTC). AVCPRHA attempted to obtain tribal certification from SRTC for the FY 2008 IHP, but was unsuccessful due to lack of a legal quorum of SRTC for the past 9 months. Tribal certification was waived so to reserve $73,786 for the Village of Stony River.

Contact: Rodger J. Boyd, Deputy Assistant Secretary, Office of Native American Programs, Office of Public and Indian Housing, Department of Housing and Urban Development, 451 7th Street, SW., Room 4126, Washington, DC 20410; (202) 401-7914.

[FR Doc. E9-5653 Filed 3-16-09; 8:45 am]

BILLING CODE 4210-67-P